DEPARTMENT OF DEFENSE

Office of the Secretary

[Docket ID: DOD-2023-OS-0092]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 28, 2023.

ADDRESSES: You may submit comments, identified by docket number and title, by any of the following methods:

Federal eRulemaking Portal: http://www.regulations.gov. Follow the instructions for submitting comments.

Mail: Department of Defense, Office of the Director of Administration and Management, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Section 572 of the National Defense Authorization Act (NDAA) for Fiscal Year (FY) 2013 required commanders of each military command to conduct a climate assessment of the command or unit for purposes of preventing and responding to sexual assaults. A subsequent November 2015 memo from the Acting Under Secretary of Defense for Personnel and Readiness (USD P&R) designated the DEOCS as the survey tool to support the NDAA requirement for a DoD command climate assessment program. As outlined in DoD Instruction (DoDI) 6400.11, all active duty and Reserve component commanders and DoD civilian organization leaders are required to administer a DEOCS to their unit or organization annually. Also included in the DEOCS population are active duty and Reserve component members of the Coast Guard, students at the U.S. Military Service Academies, U.S. Coast Guard Academy, and U.S. Merchant Marine Academy, and foreign nationals working for the DoD. The survey is web-based and is a census of the commander's unit. The core survey questions are organized into three main categories that include (1) unit experience, (2) leadership, and (3) behaviors and personal experience. To fulfill the requirement outlined in DoDI 1350.02 of fielding a survey to assess racial and ethnic relations in the military, a sample of active duty and Reserve component members who take the DEOCS in 2024 will be provided additional questions on racial and ethnic issues.

Title; Associated Form; and OMB Number: Defense Organizational Climate Survey (DEOCS)—Version 5.1; OMB Control Number 0704-0659.

Needs and Uses: The DEOCS is fielded in response to Section 572 of the National Defense Authorization Act (NDAA) for Fiscal Year (FY) 2013. A May 2019 memo from the Acting Secretary of Defense directed that the goals of the DEOCS include developing and providing leaders with assessment tools “that help them with developing an appropriate course of action from a suite of interventions and provide them with feedback on their impact of their efforts.” The information gathered from the DEOCS will be used by commanders, prevention workforce personnel, equal opportunity officers (EOAs), survey administrators, and other leaders to assess the unit's command climate and measure the risk and protective factors associated with the six strategic target outcomes (sexual assault, sexual harassment, racial/ethnic discrimination, suicide, readiness, and retention). Based on the DEOCS results, commanders/leaders, their command climate administrator, and their Integrated Primary Prevention Workforce (IPPW) personnel will develop a Comprehensive Integrated Primary Prevention (CIPP) plan to positively impact their organization's leadership climate. The survey results are provided to the commander/leader, their command climate administrator, and their IPPW personnel. Survey responses could also be used in future analyses.

The statutory and policy requirements for the DEOCS can be found in the following:

• FY13 NDAA, Section 572

• FY14 NDAA, Section 1721

• DoD Instruction (DoDI) 6400.11, “DoD Integrated Primary Prevention Policy for Prevention Workforce and Leaders”

• DoD Instruction (DoDI) 1350.02, “DoD Military Equal Opportunity Program” Office of the Under Secretary of Defense for Personnel and Readiness. (2018).

Realignment of force resiliency elements of the Office of the Under Secretary of Defense for Personnel and Readiness [Memorandum]. The DEOCS fielded in 2024 will also include items that meet the requirement to collect information on racial and ethnic issues among active duty and Reserve component members. To reduce survey burden, the Department identified the DEOCS as the most appropriate existing survey vehicle to collect this information. The statutory and policy requirements for collecting information on racial and ethnic issues among active duty and Reserve component members can be found in the following:

• Immediate Actions to Improve Diversity & Inclusion (Esper, 2020)

Affected Public: Individuals or households.

Annual Burden Hours: 926,973.

Number of Respondents: 1,589,098.

Responses per Respondent: 1.

Annual Responses: 1,589,098.

Average Burden per Response: 35 minutes.

Frequency: As required.

Unit commanders and organizational leaders must administer a DEOCS during the Annual Force-wide administration. There is not a standardized method for defining at which level in the hierarchy units are required to take the DEOCS, how to define a unit, or how to define unit membership. As a result, there may be overlap between DEOCS units resulting in individuals taking more than one DEOCS. The additional survey items included on the DEOCS to meet the requirement to gather information on racial and ethnic issues among active duty and Reserve component members is collected biennially (i.e. every other year).

Dated: September 26, 2023.
Natalie M. Ragland,
Alternate OSD Federal Register Liaison Officer, Department of Defense.

[FR Doc. 2023-21542 Filed 9-28-23; 8:45 am]

BILLING CODE 5001-06-P